DEPARTMENT OF HOMELAND SECURITY

Bureau of Customs and Border Protection

Paperless Drawback Prototype: Delay of Commencement of Test and Reopening of Application Period

AGENCY: Customs and Border Protection, Homeland Security; Treasury.

ACTION: General notice.

SUMMARY: In a document published in the Federal Register on September 27, 2002, Customs announced its plan to conduct a prototype test to determine the feasibility of filing paperless drawback claims. The document stated that drawback claimants who wished to participate in the test must submit applications to Customs by October 28, 2002. In an effort to encourage greater participation in the prototype, Customs in this document is announcing a reopening of the period for drawback claimants to submit applications to participate in the Paperless Drawback Prototype and sets a new timeframe for commencement of the test.

DATES: Drawback claimants who wish to participate in the Paperless Drawback Prototype must submit applications to Customs no later than May 19, 2003. The Paperless Drawback Prototype will commence no earlier than May 19, 2003, and will run for approximately one year with a final evaluation taking place at the end of the first 12-months of the prototype.

ADDRESS: Written comments regarding this notice, and prototype applications, should be addressed to the Bureau of Customs and Border Protection, Entry and Drawback Management Branch, 1300 Pennsylvania Avenue, NW., Room 5.2-33, Washington, DC 20229.

FOR FURTHER INFORMATION CONTACT: Questions pertaining to any aspect of this prototype should be directed to Sherri Lee Hoffman, Bureau of Customs and Border Protection, Entry and Drawback Management Branch, at (202) 927-0300 or via email at sherri.lee.hoffman@customs.treas.gov.

SUPPLEMENTARY INFORMATION:

Background

Title VI of the North American Free Trade Agreement Implementation Act, Pub. L. 103-182, 107 Stat. 2057 (December 8, 1993), contains provisions pertaining to Customs Modernization (107 Stat. 2170). Subpart B of title VI of the Act concerns the National Customs Automation Program (NCAP), an electronic system for the processing of commercial imports. Within subpart B, section 631 of the Act added section 411 to the Tariff Act of 1930 (19 U.S.C. 1411-1414), which defines the NCAP, provides for the establishment of and participation in the NCAP, and includes a list of existing and planned components. Section 411(a)(2)(F) identifies the electronic (i.e., paperless) filing of drawback claims, records or entries as a planned NCAP component.

Section 101.9(b) of the Customs Regulations (19 CFR 101.9(b)) provides for the testing of NCAP planned components. The Paperless Drawback prototype is being tested in accordance with this provision.

A notice describing the Paperless Drawback Prototype, and setting forth the prototype's terms and conditions, was published in the Federal Register (67 FR 61197) on September 27, 2002. That document stated that the prototype was to commence no earlier than August 1, 2002, and the deadline by which drawback claimants were required to submit applications to Customs to participate in the prototype was October 28, 2002. In an effort to encourage greater participation in the prototype, Customs is reopening the application period until 30 days from the date of publication of this notice in the Federal Register. The Paperless Drawback Prototype will commence no earlier than 30 days from the application deadline date.

All of the remaining Paperless Drawback Prototype terms and conditions set forth in the September 27, 2002, Federal Register notice remain in effect.

Dated: April 11, 2003.
William S. Heffelfinger III,
Acting Assistant Commissioner, Office of Field Operations.

[FR Doc. 03-9405 Filed 4-16-03; 8:45 am]

BILLING CODE 4820-02-P